DEPARTMENT OF HEALTH AND HUMAN SERVICES

Indian Health Service

American Indians Into Nursing; Notice of Competitive Grant Applications for American Indians Into Nursing Program

Announcement Type: Competing Continuation.

Funding Announcement Number: HHS-2013-IHS-NU-0001.

Catalog of Federal Domestic Assistance Number: 93.970.

Dates:

Key Dates

Application Deadline Date: August 19, 2013.

Review Date: August 22, 2013.

Earliest Anticipated Start Date: September 15, 2013.

Proof of Non-Profit Status Due Date: August 9, 2013.

I. Funding Opportunity Description

Statutory Authority

The Indian Health Service (IHS) Office of Public Health Support (OPHS) is accepting competitive cooperative agreement applications for the American Indians into Nursing Program (Section 112). This program is authorized under Section 112 of the Indian Health Care Improvement Act, Public Law 94-437, as amended (IHCIA), codified at 25 U.S.C. 1616e. This program is described in the Catalog of Federal Domestic Assistance under 93.970.

Background

The IHS, an agency within the Department of Health and Human Services (HHS), is responsible for providing Federal health services to American Indians and Alaska Natives (AI/AN). The mission of the IHS is to raise the physical, mental, social, and spiritual health of AI/AN. The IHCIA authorizes the IHS to administer programs that are designed to attract and recruit qualified individuals into health professions needed at IHS facilities. The programs administered are designed to encourage AI/AN to enter health professions and to ensure the availability of health professionals to serve AI/AN populations. Section 112 of the IHCIA requires IHS to administer the American Indians into Nursing Scholarship Program. Within the Section 112 program, IHS provides grants to colleges, universities, and other entities to develop and maintain nursing education programs and recruit individuals to become Registered Nurses, Certified Nurse Midwives, Nurse Practitioners and Certified Nurse Anesthetists who will provide services to AI/AN people. Nursing program scholarship grants may be used by the educational institution to provide scholarships to students enrolled in nursing education programs. According to the terms and conditions of the nursing program scholarship grant award, scholarship awards are for a 1-year period; additional scholarship support may be awarded to each eligible student for up to four years (maximum).

Purpose

The purpose of this IHS cooperative agreement is to augment the number of Registered Nurses, Certified Nurse Midwives, Nurse Practitioners and Certified Nurse Anesthetists who deliver health care services to AI/AN communities. The primary objectives of this cooperative agreement grant award are to: (1) Recruit and train individuals to be Registered Nurses (Associate Degree in Nursing (ADN), Bachelor of Science in Nursing (BSN)) and Advance Practice Nurses (Masters of Science in Nursing (MSN) and Doctor of Nursing Practice (DNP)); (2) Provide scholarships to individuals enrolled in schools of nursing to pay tuition, books, fees, and stipends for living expenses; (3) provide a program that encourages nurses (DNP, MSN, BSN, ADN) to provide or continue to provide, health care services in health care programs, and (4) provide a program that increases the skills of, and provides continuing education to nurses (Graduate and Undergraduate).

II. Award Information

Type of Award

Cooperative Agreement.

Estimated Funds Available

The total amount of funding identified for the current fiscal year 2013 is approximately $1,669,697. Individual award amounts are anticipated to be between $300,000 and $350,000. Competing continuation awards issued under this announcement are subject to the availability of funds. In the absence of funding, the IHS is under no obligation to make awards that are selected for funding under this announcement.

Anticipated Number of Awards

Approximately four awards will be issued under this program announcement.

Project Period

The project period will be for three years and will run consecutively from September 15, 2013 to September 14, 2016.

Cooperative Agreement

In the HHS, a cooperative agreement is administered under the same policies as a grant. The funding agency (IHS) is required to have substantial programmatic involvement in the project during the entire award segment. Below is a detailed description of the level of involvement required for both IHS and the grantee. IHS will be responsible for activities listed under section A and the grantee will be responsible for activities listed under section B as stated:

Substantial Involvement Description for Cooperative Agreement

A. IHS Programmatic Involvement

(1) The IHS assigned program official will work closely with the project's Principal Investigator/Project Director to ensure timely receipt of the required semi-annual progress reports from each American Indians into Nursing grantee and review them for program compliance.

(2) The IHS assigned program official will provide programmatic technical assistance to the grantee as requested.

(3) The IHS assigned program official will coordinate and conduct site visits and semi-annually conference calls with grantees and students.

(4) The IHS assigned program official from the OPHS will work in partnership with the Division of Grants Management (DGM) to ensure all goals and objectives of the proposed project are met.

(5) The IHS assigned program official will provide an American Indians into Nursing scholarship handbook for student program review.

(6) The IHS assigned program official will initiate default proceedings within 90 days after receiving notification from the grantee that a student has been dismissed from the nursing program, withdrawn from school, failed to graduate with a nursing degree, or failed to get licensed and begin obligated service time within 90 days.

B. Grantee Cooperative Agreement Award Activities

(1) The American Indians into Nursing grantee must designate a Principal Investigator/Project Director. The Project Director is the individual designated by the grant applicant to manage the project or activity being supported by the grant. He/she is responsible for the scientific or technical direction of the project, the day-to-day management of the program, and is accountable to the grantee for the proper conduct of all grant related activities.

(2) The Project director must have a current curriculum vitae on file in the official grant file within DGM. In the case of a project director resigning, the grantee is required to notify DGM in writing immediately upon discovery. The grantee will notify the DGM of any new potential replacement project director for program approval within 30 days.

(3) The American Indians into Nursing grantee will award nursing scholarships to continuing and new students. The project director will meet with each student to review the IHS scholarship contract and scholarship recipient handbook.

(4) The American Indians into Nursing grantee will maintain academic and obligated service records using a secure Web based system for scholarship recipients. Those records shall include: student contract information/application; copy of award letter; signed copy of IHS scholarship contract; notification of academic problem or change; change of academic status; change in graduation date; leave of absence; name change; change of address; notice of impending graduation; placement update; and preferred assignment.

(5) The American Indians into Nursing grantee will submit all required documents to the IHS assigned program official upon graduation: official transcript; copy of license and certifications; letter of hire for Tribal/Urban employees; copy of SF-50 for Federal employees; and all status reports throughout the scholarship recipient's service obligation.

(6) The American Indians into Nursing grantee will submit student contracts, student information and initial student progress report 45 days after the start of the semester.

(7) The American Indians into Nursing grantee project director will monitor fulfillment of all contractual obligations incurred by nursing program scholarship recipients by requesting a student status report six months and one year after hire date.

(8) The American Indians into Nursing grantee project director is encouraged to have quarterly meeting with university/college grants and contract officer and college of business officers.

(9) The American Indians into Nursing grantee project director is expected to collaborate with other American Indians into Nursing project directors and staff under this grant program; and to share best practices, successes and challenges of the program. The American Indians into Nursing scholarship recipients will be required to participate in the annual IHS national nurse leaders meeting for workshop, mentorship and networking.

(10) The American Indians into Nursing grantee will complete an end of year report and ensure a budget report is submitted to IHS assigned program official and grants specialist 90 days after the budget period ends.

III. Eligibility Information

1. Eligible Applicants

Schools of nursing providing nursing education and conferring degrees are eligible for this award:

A. Accredited Public or Private schools of nursing,

B. Accredited Tribally controlled community colleges and Tribally controlled postsecondary vocational institutions (as defined in section 390(2) of the Tribally Controlled Vocational Institutions Support Act of 1990 (20 U.S.C. 2397h(2)), or

C. Nurse midwife programs and nurse practitioner programs that are provided by any public or private institution.

2. In Accordance With the IHCIA, Funding Preference Will Be Given to Applicants Who Have:

A. Programs that provide a preference to Indian students.

B. Programs that train nurse midwives, nurse practitioners, and nurse anesthetist.

C. Programs that are interdisciplinary with other health professional students such as medicine, pharmacy, dental and behavioral health students.

D. Programs that are conducted in cooperation with a center for gifted and talented Indian students established under section 5324 (a) of the Indian Education Act of 1988. If an eligible organization claims preference in order to be given priority, the organization must submit verifying documentation.

Note: Please refer to Section IV.2 (Application and Submission Information/Subsection 2, Content and Form of Application Submission) for additional proof of applicant status documents required such as proof of non-profit status, etc.

3. Cost Sharing or Matching

The IHS does not require matching funds or cost sharing for grants or cooperative agreements.

4. Other Requirements

A. All schools must be state approved. All schools and training programs must have current, unrestricted accreditation by either the National League for Nursing Accrediting Commission (NLNAC) or American Association of Colleges of Nursing Commission on Collegiate Nursing Education (CCNE). All institutions must be fully accredited without restrictions.

B. The schools offering a degree in nurse midwifery must provide verification of accreditation by the American College of Nurse Midwives.

C. The schools offering a degree in nurse anesthesia must provide verification of accreditation by the Council of Accreditation of Nurse Anesthesia Educational Program (COA).

D. The Tribally controlled community college nursing programs and Tribally controlled post-secondary vocational institutions must be accredited by the NLNAC or other appropriately recognized nursing accrediting body.

E. All universities and colleges currently participating and submitting competing continuation proposals must include new objectives for this project period.

If application budgets exceed the highest dollar amount outlined under the “Estimated Funds Available” section within this funding announcement, the application will be considered ineligible and will not be reviewed for further consideration. If deemed ineligible, IHS will not return the application. The applicant will be notified by email by the Division of Grants Management (DGM) of this decision.

Proof of Non-Profit Status

Organizations claiming non-profit status must submit proof. A copy of the 501(c)(3) Certificate must be received with the application submission by the Application Deadline Date listed under the Key Dates section on page one of this announcement.

An applicant submitting any of the above additional documentation after the initial application submission due date is required to ensure the information was received by the IHS by obtaining documentation confirming delivery (i.e. FedEx tracking, postal return receipt, etc.).

IV. Application and Submission Information

1. Obtaining Application Materials

The application package and detailed instructions for this announcement can be found at http://www.Grants.gov or https://www.ihs.gov/dgm/index.cfm?module=dsp_dgm_funding.

Questions regarding the electronic application process may be directed to Mr. Paul Gettys at (301) 443-2114.

2. Content and Form Application Submission

The applicant must include the project narrative as an attachment to the application package. Mandatory documents for all applicants include:

• Table of contents.

• Abstract (one page) summarizing the project.

• Application forms:

○ SF-424, Application for Federal Assistance.

○ SF-424A, Budget Information—Non-Construction Programs.

○ SF-424B, Assurances—Non-Construction Programs.

• Budget Justification and Narrative (must be single spaced and not exceed five pages).

• Project Narrative (must be single spaced and not exceed ten pages).

○ Background information on the organization.

○ Proposed scope of work, objectives, and activities that provide a description of what will be accomplished, including a one-page Timeframe Chart.

• 501(c)(3) Certificate (if applicable).

• Biographical sketches for all Key Personnel.

• Contractor/Consultant resumes or qualifications and scope of work.

• Disclosure of Lobbying Activities (SF-LLL).

• Certification Regarding Lobbying (GG-Lobbying Form).

• Copy of current Negotiated Indirect Cost rate (IDC) agreement (required) in order to receive IDC.

• Organizational Chart (optional).

• Documentation of current Office of Management and Budget (OMB) A-133 required Financial Audit (if applicable). Acceptable forms of documentation include:

○ Email confirmation from Federal Audit Clearinghouse (FAC) that audits were submitted; or

○ Face sheets from audit reports. These can be found on the FAC Web site: http://harvester.census.gov/sac/dissem/accessoptions.html?submit=Go+To+Database

Public Policy Requirements

All Federal-wide public policies apply to IHS grants with exception of the Discrimination policy.

Requirements for Project and Budget Narratives

A. Project Narrative: This narrative should be a separate Word document that is no longer than ten pages and must: be single-spaced, be type written, have consecutively numbered pages, use black type not smaller than 12 characters per one inch, and be printed on one side only of standard size 8½″ x 11″ paper.

Be sure to succinctly answer all questions listed under the evaluation criteria (refer to Section V.1, Evaluation criteria in this announcement) and place all responses and required information in the correct section (noted below), or they will not be considered or scored. These narratives will assist the Objective Review Committee (ORC) in becoming more familiar with the grantee's activities and accomplishments prior to this grant award. If the narrative exceeds the page limit, only the first ten pages will be reviewed. The 10-page limit for the narrative does not include the work plan, standard forms, Tribal resolutions, table of contents, budget, budget justifications, narratives, and/or other appendix items.

Part A: Program Information (3-Page Limitation)

Section 1: Needs

The American Indians Into Nursing Program

1. Describe how the proposed American Indians into Nursing program will maintain academic and obligated service records using a secure web based system for scholarship recipients: Student contract information/application, copy of award letter, signed copy of IHS Scholarship contract, notification of academic problem or change, change of academic status, change in graduation date, leave of absence, name change, change of address, notice of impending graduation, placement update, and preferred assignment.

2. Describe how the proposed American Indians into Nursing program coordinator will monitor fulfillment of all contractual obligations incurred by nursing program scholarship recipients.

3. Describe how the proposed American Indians into Nursing program will complete the following activities: submitting semi-annual status reports, annual reports and budget reports by designated deadline to assure program compliance.

4. Describe how the proposed American Indians into Nursing program will notify IHS assigned program official of new and continuing students scholarship awards and submission of IHS contracts within 45 days of student scholarship awards.

Part B: Program Planning and Evaluation (5-Page limitation)

Section 1: Program Plans

Describe fully and clearly how the applicant will complete the following and include proposed timelines for completing these activities:

1. Attract and recruit for the associates, baccalaureate, masters and doctorate nursing programs.

2. Provide mechanisms and resources to increase nursing student enrollment, retention, and graduation.

3. Process for advertising, selecting and notifying Section 112 scholarship to nursing students

4. Provide activities that increase the skills and provide continuing education at the graduate and undergraduate level for nurses who deliver health services to the AI/AN population.

5. Provide support to the American Indians into Nursing program utilizing career counseling; academic advice; plans to correct academic deficiencies; and other activities to assist student retention.

Section 2: Program Evaluation

1. Describe fully and clearly the program plans for evaluating success in carrying out the project and on an annual basis conduct a quantitative and qualitative evaluation of the year's activity, identifying what areas of the project need to be improved and how the applicant will make those improvements.

2. Applicants must identify how they will meet on an annual basis with the other project directors and staff under this grant program to share best practices, successes and challenges and to receive Federal grant training.

Part C: Program Report (Current Grantee only) (5-Page Limitation)

Section 1: Describe major accomplishments over the last 24 months.

Please identify and describe significant program achievements associated with the program objectives. Provide a comparison of the actual program accomplishments to the goals established for the project period, or, if applicable, provide justification for the lack of progress.

Section 2: Describe major activities over the last 5 years.

Please identify and summarize major project activities during the project period to improve the management of the grant program.

B. Budget Narrative: This narrative must describe the budget requested and match the scope of work described the project narrative. The budget narrative should not exceed five pages.

1. Submission Dates and Times

Applications must be submitted electronically through Grants.gov by 12:00 a.m., midnight Eastern Daylight Time (EDT) on the Application Deadline Date listed in the Key Dates section on page one of this announcement. Any application received after the application deadline will not be accepted for processing, nor will it be given further consideration for funding. The applicant will be notified by the DGM via email of this decision.

If technical challenges arise and assistance is required with the electronic application process, contact Grants.gov Customer Support via email to support@grants.gov or at (800) 518-4726. Customer Support is available to address questions 24 hours a day, 7 days a week (except on Federal holidays). If problems persist, contact Mr. Paul Gettys, DGM (Paul.Gettys@ihs.gov) at (301) 443-2114. Please be sure to contact Mr. Gettys at least ten days prior to the application deadline. Please do not contact the DGM until you have received a Grants.gov tracking number. In the event you are not able to obtain a tracking number, call the DGM as soon as possible.

If the applicant needs to submit a paper application instead of submitting electronically via Grants.gov, prior approval must be requested and obtained (see Section IV.6 below for additional information). The waiver must be documented in writing (emails are acceptable), before submitting a paper application. A copy of the written approval must be submitted along with the hardcopy that is mailed to the DGM. Once the waiver request has been approved, the applicant will receive a confirmation of approval and the mailing address to submit the application. Paper applications that are submitted without a waiver from the Acting Director of DGM will not be reviewed or considered further for funding. The applicant will be notified via email of this decision by the Grants Management Officer of DGM. Paper applications must be received by the DGM no later than 5:00 p.m., EDT, on the Application Deadline Date listed in the Key Dates section on page one of this announcement. Late applications will not be accepted for processing or considered for funding.

2. Intergovernmental Review

Executive Order 12372 requiring intergovernmental review is not applicable to this program.

3. Funding Restrictions

• Pre-award costs are not allowable.

• The available funds are inclusive of direct and appropriate indirect costs.

• Only one grant/cooperative agreement will be awarded per applicant.

• IHS will not acknowledge receipt of applications.

4. Electronic Submission Requirements

All applications must be submitted electronically. Please use the http://www.Grants.gov Web site to submit an application electronically and select the “Find Grant Opportunities” link on the homepage. Download a copy of the application package, complete it offline, and then upload and submit the completed application via the http://www.Grants.gov Web site. Electronic copies of the application may not be submitted as attachments to email messages addressed to IHS employees or offices.

If the applicant receives a waiver to submit paper application documents, the applicant must follow the rules and timelines that are noted below. The applicant must seek assistance at least ten days prior to the Application Deadline Date listed in the Key Dates section on page one of this announcement.

Applicants that do not adhere to the timelines for System for Award Management (SAM) and/or http://www.Grants.gov registration or that fail to request timely assistance with technical issues will not be considered for a waiver to submit a paper application.

Please be aware of the following:

• Please search for the application package in http://www.Grants.gov by entering the CFDA number or the Funding Opportunity Number. Both numbers are located in the header of this announcement.

• If you experience technical challenges while submitting your application electronically, please contact Grants.gov Support directly at: support@grants.gov or (800) 518-4726. Customer Support is available to address questions 24 hours a day, 7 days a week (except on Federal holidays).

• Upon contacting Grants.gov, obtain a tracking number as proof of contact. The tracking number is helpful if there are technical issues that cannot be resolved and a waiver from the agency must be obtained.

• If it is determined that a waiver is needed, the applicant must submit a request in writing (emails are acceptable) to GrantsPolicy@ihs.gov with a copy to Tammy.Bagley@ihs.gov. Please include a clear justification for the need to deviate from the standard electronic submission process.

• If the waiver is approved, the application should be sent directly to the DGM by the Application Deadline Date listed in the Key Dates section on page one of this announcement.

• Applicants are strongly encouraged not to wait until the deadline date to begin the application process through Grants.gov as the registration process for SAM and Grants.gov could take up to fifteen working days.

• Please use the optional attachment feature in Grants.gov to attach additional documentation that may be requested by the DGM.

• All applicants must comply with any page limitation requirements described in this Funding Announcement.

• After electronically submitting the application, the applicant will receive an automatic acknowledgment from Grants.gov that contains a Grants.gov tracking number. The DGM will download the application from Grants.gov and provide necessary copies to the appropriate agency officials. Neither the DGM nor the OPHS will notify the applicant that the application has been received.

• Email applications will not be accepted under this announcement.

Dun and Bradstreet (D&B) Data Universal Numbering System (DUNS)

All IHS applicants and grantee organizations are required to obtain a DUNS number and maintain an active registration in the SAM database. The DUNS number is a unique 9-digit identification number provided by D&B which uniquely identifies each entity. The DUNS number is site specific; therefore, each distinct performance site may be assigned a DUNS number. Obtaining a DUNS number is easy, and there is no charge. To obtain a DUNS number, please access it through http://fedgov.dnb.com/webform, or to expedite the process, call (866) 705-5711.

All HHS recipients are required by the Federal Funding Accountability and Transparency Act of 2006, as amended (“Transparency Act”), to report information on subawards. Accordingly, all IHS grantees must notify potential first-tier subrecipients that no entity may receive a first-tier subaward unless the entity has provided its DUNS number to the prime grantee organization. This requirement ensures the use of a universal identifier to enhance the quality of information available to the public pursuant to the Transparency Act.

System for Award Management (SAM)

Organizations that were not registered with Central Contractor Registration (CCR) and have not registered with SAM will need to obtain a DUNS number first and then access the SAM online registration through the SAM home page at https://www.sam.gov (U.S. organizations will also need to provide an Employer Identification Number from the Internal Revenue Service that may take an additional 2-5 weeks to become active). Completing and submitting the registration takes approximately one hour to complete and SAM registration will take 3-5 business days to process. Registration with the SAM is free of charge. Applicants may register online at https://www.sam.gov.

Additional information on implementing the Transparency Act, including the specific requirements for DUNS and SAM, can be found on the IHS Grants Management, Grants Policy Web site: https://www.ihs.gov/dgm/index.cfm?module=dsp_dgm_policy_topics.

V. Application Review Information

The instructions for preparing the application narrative also constitute the evaluation criteria for reviewing and scoring the application. Weights assigned to each section are noted in parentheses. The 10-page narrative should include only the first year of activities; information for multi-year projects should be included as an appendix. See “Multi-year Project Requirements” at the end of this section for more information. The narrative section should be written in a manner that is clear to outside reviewers unfamiliar with prior related activities of the applicant. It should be well organized, succinct, and contain all information necessary for reviewers to understand the project fully. Points will be assigned to each evaluation criteria adding up to a total of 100 points. A minimum score of 70 points is required for funding. Points are assigned as follows:

1. Criteria

A. In accordance with the IHCIA, funding preference will be given to applicants who have: (20 points)

1. Programs that provide a preference to Indian students.

2. Programs that train nurse midwives, nurse practitioners, and nurse anesthetist.

3. Programs that are interdisciplinary with other health professional students such as medicine, pharmacy, dental and behavioral health students.

4. Programs that are conducted in cooperation with a center for gifted and talented Indian students established under section 5324(a) of the Indian Education Act of 1988. If an eligible organization claims preference in order to be given priority, the organization must submit verifying documentation.

B. In addition, in scoring applications, a preference will be provided to the following: (10 points)

1. Programs that provide nursing education which have an emphasis on leadership related competencies and health care innovation.

2. Programs that provide nursing education which have an emphasis on transcultural nursing and cultural competency.

3. Programs whose curriculum has a rural health care focus.

4. Programs that integrate an Evidence Based Practice (EBP) curriculum.

5. Programs which have student clinical rotations established or plan to establish clinical rotations with Indian health programs. The organization must submit letter of intent from the Indian health program.

6. Programs which offer formal bridge program agreements between Tribal colleges or universities so as to accommodate ADN to BSN, BSN to MSN, and MSN to DNP students.

7. Programs which have a faculty exchange program between a Tribal college or university and a university school of nursing, so as to enhance cultural relevance, competency and faculty strength.

C. Introduction and Need for Assistance (15 Points)

1. Applicants must justify the need for their project and provide a plan for the methodology they will use for recruiting nursing students nation-wide, provide a program that encourages AI/AN nurses at the graduate and undergraduate level; and provide a program that increases the skills of and provides continuing education to nurses at the graduate and undergraduate level.

2. Applicants should identify their experience with other similar projects, including the results of those projects and provide evidence of their past or potential cooperation and experience with AI/AN communities and Tribes.

3. Applicants should demonstrate substantial benefit to Indian health programs.

D. Project Objective(s), Work Plan and Approach (20 Points)

1. Applicants must clearly describe how they will recruit and train individuals to be nurses at the graduate and undergraduate level and to provide scholarships to students enrolled in the college of nursing to pay tuition, books, fees, and stipends for living expenses.

2. Applicants must clearly describe how the program will provide support services to nursing students to facilitate their success in the nursing program as well as track their progress.

3. Applicants must clearly describe how the program will assist the graduate nurse with job placement and track their payback status to ensure service obligation is fulfilled.

4. Applicants should have a mechanism in place to provide their students with clinical rotation in AI/AN health programs; have a bridge program between Tribal colleges or universities so as to accommodate ADN to BSN, BSN to MSN/DNP and have a faculty exchange program with Tribal college or university and the university school of nursing.

E. Program Evaluation (20 Points)

1. Present a plan for evaluating success in carrying out the project on a day-to-day project operation and conduct a quantitative and qualitative evaluation of the year's activities.

2. Identify how the program will adequately document project objectives; and identify what areas of the project need improvements.

3. Demonstrate the detailed steps and timeline to effectively achieve proposed methodology and evaluation plan.

4. Identify how the program director will meet with other project directors and staff on annual basis to share best practices, successes and challenges.

F. Organizational Capabilities, Key Personnel and Qualifications (5 Points)

1. Provide an organizational chart and describe the administrative, managerial and organization arrangements and the facilities and resources to be utilized to conduct the proposed project.

2. List the key personnel who will work with the program. In the appendix, include position descriptions and resumes of program director and key staff with duties and experience. Describe who will be writing progress report.

3. Describe any prior experience in administering similar project.

G. Categorical Budget and Budget Justification (10 Points)

1. Clearly define the budget. Provide a justification and detailed breakdown of the funding by category for the first year of the project. Information on the project director and project staff should include salaries and percentage of time assigned to the grant. List equipment purchases necessary to conduct the project.

2. The applicant may include as a direct cost tuition and student support for students who have been selected to receive a scholarship through the American Indians into Nursing grant. Scholarship support consists of full time tuition/fees/books/other expenses to include uniforms and monthly stipends for living expenses for 12 months. The current stipend is to be $1500 per month.

Multi-Year Project Requirements

Projects requiring second, third, fourth, and/or fifth year must include a brief project narrative and budget (one additional page per year) addressing the developmental plans for each additional year of the project in an appendix

Appendix Items

• Work plan, logic model and/or time line for proposed objectives.

• Position descriptions for key staff.

• Resumes of key staff that reflect current duties.

• Consultant or contractor proposed scope of work and letter of commitment (if applicable).

• Current Indirect Cost Agreement.

• Organizational chart(s) highlighting proposed project staff and their supervisors as well as other key contacts within the organization and key community contacts.

• Additional documents to support narrative (i.e. data tables, key news articles, etc.).

1. Review and Selection

Each application will be prescreened by the DGM staff for eligibility and completeness as outlined in the funding announcement. Incomplete applications and applications that are non-responsive to the eligibility criteria will not be referred to the ORC. Applicants will be notified by DGM, via email, to outline minor missing components (i.e., signature on the SF-424, audit documentation, key contact form) needed for an otherwise complete application. All missing documents must be sent to DGM on or before the due date listed in the email of notification of missing documents required.

To obtain a minimum score for funding by the ORC, applicants must address all program requirements and provide all required documentation. If an applicant receives less than a minimum score, it will be considered to be “Disapproved” and will be informed via email by the IHS Program Office of their application's deficiencies. A summary statement outlining the strengths and weaknesses of the application will be provided to each disapproved applicant. The summary statement will be sent to the Authorized Organizational Representative that is identified on the face page (SF-424), of the application within 30 days of the completion of the Objective Review.

VI. Award Administration Information

Award Notices

The Notice of Award (NoA) is a legally binding document signed by the Grants Management Officer and serves as the official notification of the grant award. The NoA will be initiated by the DGM in our grant system, GrantSolutions (https://www.grantsolutions.gov). Each entity that is approved for funding under this announcement will need to request or have a user account in GrantSolutions in order to retrieve their NoA. The NoA is the authorizing document for which funds are dispersed to the approved entities and reflects the amount of Federal funds awarded, the purpose of the grant, the terms and conditions of the award, the effective date of the award, and the budget/project period.

Disapproved Applicants

Applicants who received a score less than the recommended funding level for approval, 70, and were deemed to be disapproved by the ORC, will receive an Executive Summary Statement from the IHS program office within 30 days of the conclusion of the ORC outlining the weaknesses and strengths of their application submitted. The IHS program office will also provide additional contact information as needed to address questions and concerns as well as provide technical assistance if desired.

Approved But Unfunded Applicants

Approved but unfunded applicants that met the minimum scoring range and were deemed by the ORC to be “Approved,” but were not funded due to lack of funding, will have their applications held by DGM for a period of one year. If additional funding becomes available during the course of FY 2013, the approved application may be re-considered by the awarding program office for possible funding. The applicant will also receive an Executive Summary Statement from the IHS program office within 30 days of the conclusion of the ORC.

Note: Any correspondence other than the official NoA signed by an IHS Grants Management Official announcing to the Project Director that an award has been made to their organization is not an authorization to implement their program on behalf of IHS.

1. Administrative Requirements

Cooperative agreements are administered in accordance with the following regulations, policies, and OMB cost principles:

A. The criteria as outlined in this Program Announcement.

B. Administrative Regulations for Grants:

• 45 CFR Part 92, Uniform Administrative Requirements for Grants and Cooperative Agreements to State, Local and Tribal Governments.

• 45 CFR Part 74, Uniform Administrative Requirements for Awards and Subawards to Institutions of Higher Education, Hospitals, and other Non-profit Organizations.

C. Grants Policy:

• HHS Grants Policy Statement, Revised 01/07.

D. Cost Principles:

• 2 CFR Part 225—Cost Principles for State, Local, and Indian Tribal Governments (OMB Circular A-87).

• 2 CFR Part 230—Cost Principles for Non-Profit Organizations (OMB Circular A-122).

E. Audit Requirements:

• OMB Circular A-133, Audits of States, Local Governments, and Non-profit Organizations.

2. Indirect Costs

This section applies to all grant recipients that request reimbursement of indirect costs (IDC) in their grant application. In accordance with HHS Grants Policy Statement, Part II-27, IHS requires applicants to obtain a current IDC rate agreement prior to award. The rate agreement must be prepared in accordance with the applicable cost principles and guidance as provided by the cognizant agency or office. A current rate covers the applicable grant activities under the current award's budget period. If the current rate is not on file with the DGM at the time of award, the IDC portion of the budget will be restricted. The restrictions remain in place until the current rate is provided to the DGM.

Generally, IDC rates for IHS grantees are negotiated with the Division of Cost Allocation (DCA) https://rates.psc.gov/ and the Department of Interior (Interior Business Center) http://www.doi.gov/ibc/services/Indirect_Cost_Services/index.cfm. For questions regarding the indirect cost policy, please call (301) 443-5204 to request assistance.

3. Reporting Requirements

The grantee must submit required reports consistent with the applicable deadlines. Failure to submit required reports within the time allowed may result in suspension or termination of an active grant, withholding of additional awards for the project, or other enforcement actions such as withholding of payments or converting to the reimbursement method of payment. Continued failure to submit required reports may result in one or both of the following: (1) The imposition of special award provisions; and (2) the non-funding or non-award of other eligible projects or activities. This requirement applies whether the delinquency is attributable to the failure of the grantee organization or the individual responsible for preparation of the reports. Reports must be submitted electronically via GrantSolutions. Personnel responsible for submitting reports will be required to obtain a login and password for GrantSolutions. Please see the Agency Contacts list in section VII for the systems contact information.

The reporting requirements for this program are noted below.

A. Progress Reports

Program progress reports are required semi-annually, within 30 days after the budget period ends. These reports must include a brief comparison of actual accomplishments to the goals established for the period, or, if applicable, provide sound justification for the lack of progress, and other pertinent information as required. A final report must be submitted within 90 days of expiration of the budget/project period.

B. Financial Reports

Federal Financial Report FFR (SF-425), Cash Transaction Reports are due 30 days after the close of every calendar quarter to the Division of Payment Management, HHS at: http://www.dpm.psc.gov. It is recommended that the applicant also send a copy of the FFR (SF-425) report to the Grants Management Specialist. Failure to submit timely reports may cause a disruption in timely payments to the organization.

Grantees are responsible and accountable for accurate information being reported on all required reports: The Progress Reports and Federal Financial Report.

C. Federal Subaward Reporting System (FSRS)

This award may be subject to the Transparency Act subaward and executive compensation reporting requirements of 2 CFR Part 170.

The Transparency Act requires the OMB to establish a single searchable database, accessible to the public, with information on financial assistance awards made by Federal agencies. The Transparency Act also includes a requirement for recipients of Federal grants to report information about first-tier subawards and executive compensation under Federal assistance awards.

IHS has implemented a Term of Award into all IHS Standard Terms and Conditions, NoAs and funding announcements regarding the FSRS reporting requirement. This IHS Term of Award is applicable to all IHS grant and cooperative agreements issued on or after October 1, 2010, with a $25,000 subaward obligation dollar threshold met for any specific reporting period. Additionally, all new (discretionary) IHS awards (where the project period is made up of more than one budget period) and where: 1) the project period start date was October 1, 2010 or after and 2) the primary awardee will have a $25,000 subaward obligation dollar threshold during any specific reporting period will be required to address the FSRS reporting. For the full IHS award term implementing this requirement and additional award applicability information, visit the Grants Management Grants Policy Web site at: https://www.ihs.gov/dgm/index.cfm?module=dsp_dgm_policy_topics.

Telecommunication for the hearing impaired is available at: TTY (301) 443-6394.

VII. Agency Contacts

1. Questions on the programmatic issues may be directed to: Naomi A. Aspaas, BSN, RN, Office of Public Health Support, 801 Thompson Avenue, TMP Suite 450, Rockville, Maryland 20852, Telephone: (301) 443-2362, Fax: (301) 443-6048, Email: Naomi.aspaas@ihs.gov.

2. Questions on grants management and fiscal matters may be directed to: Andrew Diggs, Grants Management Specialist, 801 Thompson Avenue, TMP Suite 360, Rockville, Maryland 20850, Phone: (301) 443-2262, Email: Andrew.diggs@ihs.gov.

3. Questions on systems matters may be directed to: Paul Gettys, Grant Systems Coordinator, 801 Thompson Avenue, TMP Suite 360, Rockville, MD 20852, Phone: 301-443-2114; or the DGM main line 301-443-5204, Fax: 301-443-9602, Email: Paul.Gettys@ihs.gov.

VIII. Other Information

The Public Health Service strongly encourages all cooperative agreement and contract recipients to provide a smoke-free workplace and promote the non-use of all tobacco products. In addition, Public Law 103-227, the Pro-Children Act of 1994, prohibits smoking in certain facilities (or in some cases, any portion of the facility) in which regular or routine education, library, day care, health care, or early childhood development services are provided to children. This is consistent with the HHS mission to protect and advance the physical and mental health of the American people.

Dated: July 8, 2013.
Yvette Roubideaux,
Acting Director, Indian Health Service.

[FR Doc. 2013-17159 Filed 7-16-13; 8:45 am]

BILLING CODE 4165-16-P